FEDERAL COMMUNICATIONS COMMISSION

Radio Broadcasting Services; AM or FM Proposals To Change The Community of License

AGENCY: Federal Communications Commission.

ACTION: Notice.

SUMMARY: The following applicants filed AM or FM proposals to change the community of license: Armada Media—McCook, Inc., Station KMTY, Facility ID 27174, BPH-20101021ADL, from Holdrege, NE, to Gibbon, NE; Christian Listening Network, Inc., Station WGQR, Facility ID 60881, BPH-20101108AAZ, from Elizabethtown, NC, to Rennert, NC; Entravision Holdings, LLC, Station WNUE-FM, Facility ID 46969, BPH-20091230AAY, from Titusville, FL, to Deltona, FL; Hawaii Public Radio, Inc., Station KIPM, Facility ID 172438, BMPED-20101019ACS, from Hana, HI, to Waikapu, HI; Huron Broadcasting, LLC, Station KZLA, Facility ID 86866, BMPH-20101027ACV, from Huron, CA, to Riverdale, CA; Radio License Holding CBC, LLC, Station WNML-FM, Facility ID 7998, BPH-20101008ABK, from Loudon, TN, to Friendsville, TN; Sacred Heart University, Inc., Station WSHU, Facility ID 43126, BP-20101019ACL, from Westport, CT, to Stratford, CT; the Last Bastion Station Trust, LLC, as Trustee, Station KRDJ, Facility ID 8167, BPH-20101029AAF, From New Iberia, LA, to Zachary, LA.

DATES: Comments may be filed through January 31, 2011.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. 2010-30180 Filed 11-30-10; 8:45 am]

BILLING CODE 6712-01-P